DEPARTMENT OF COMMERCE

National Oceanic and Atmospheric Administration

[I.D. 022806D]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held March 20 - 23, 2006. See SUPPLEMENTARY INFORMATION for specific dates and times.

ADDRESSES: These meetings will be held at the Radisson Admiral Semmes Hotel, 251 Government Street, Mobile, AL 36602.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, March 22, 2006

1:30 p.m. - Convene.

1:45 p.m. - 2:30 p.m. - Hear a Monitoring Report on the Madison/Swanson Marine Reserves.

2:30 p.m. - 4:30 p.m. - Receive public testimony on (a) Final Reef Fish Amendment 26 [Red Snapper Individual Fishing Quota (IFQ)]; and (b) Exempted fishing permits (if any).

4:30 p.m. - 5:30 p.m. - Open public comment period regarding any fishery issue or concern.

6:30 p.m. - 8:30 p.m. - NOAA Fisheries Service will hold a public workshop to provide a general demonstration of the on-line capabilities to implement the Red Snapper Individual Fishing Quota (IFQ) System. This presentation is solely for the purpose of soliciting input from the Council and potential users of the system in an effort to make the tool user friendly, concise and responsive to Reef Fish Amendment 26.

Thursday, March 23, 2006

8:30 a.m. - 9 a.m. - Receive the Scientific and Statistical Committee (SSC) Selection Committee Report on appointment of shrimp effort working group (CLOSED SESSION).

9 a.m. - 11:15 a.m. - Receive the joint Reef Fish/Shrimp Management Committees Report.

11:15 a.m. - 12 noon - Receive the Administrative Policy Committee Report.

1:30 p.m. - 1:45 p.m. - Report the Council action on the SSC Selection Committee Report.

1:45 p.m. - 3:45 p.m. - Receive the Reef Fish Management Committee Report.

3:45 p.m. - 4 p.m. - Receive the Council Chairs Budget Meeting Report.

4 p.m. - 5 p.m. - Other Business (Includes miscellaneous reports filed under Tabs O, P, Q, and R of briefing book).

Committee

Monday, March 20, 2006

1 p.m. - 3 p.m. - The Standing SSC will meet to discuss and take action on attendance/operations issues. The Standing SSC will then review and take action on the Socioeconomic Panel (SEP) Report on grouper allocation issues.

3 p.m. - 4:30 p.m. - The Administrative Policy Committee will meet jointly with the Standing SSC to review the Statement of Organization Practices and Procedures (SOPPs) provisions on SSC operations.

4:30 p.m. - 5:30 p.m. - The joint Reef Fish/Shrimp Management Committees will meet with the Standing SSC to review an options paper for Joint Draft Amendment Reef Fish 27/Shrimp 14 to consider changes to regulations for the directed red snapper fishery and shrimp trawl fishery for reducing bycatch in the directed red snapper fishery and shrimp fishery; and effort limitation alternatives for the shrimp fishery. The Committees and the SSC will also review a scoping document for a Draft Shrimp Amendment 15 that considers limits on trawling gear, restrictions on the transfer of vessel permits, bycatch quotas, and possible area closures. Public comments from the scoping meetings will be reviewed for both proposed amendments. The SSC will provide their review, and the Committees will make recommendations for Council.

Tuesday, March 21, 2006

8:30 a.m. - 12 noon - The joint Reef Fish/Shrimp Management Committees will reconvene with the Standing SSC to continue their work.

1:30 p.m. - 5:30 p.m. - The joint Reef Fish/Shrimp Management Committees will convene without the Standing SSC to continue their discussions.

Wednesday, March 22, 2006

8:30 a.m. - 12 p.m. - After an update on the red snapper IFQ referendum, the Reef Fish Management Committee will take final action on Reef Fish Amendment 26 for a Red Snapper IFQ program. They will then review public comments/letters and develop committee recommendations. The Committee will then discuss issues pertaining to the Grouper IFQ Amendment and review recommendations of the Ad Hoc Grouper IFQ Advisory Panel and make recommendations to Council. Finally, the Committee will review the SEP report and the SSC Recommendations on Grouper Allocation Amendment issues and make recommendations to Council.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) at least 5 working days prior to the meeting.

Dated: March 1, 2006.
Tracey L. Thompson,
Acting Director, Office of Sustainable Fisheries, National Marine Fisheries Service.

[FR Doc. E6-3100 Filed 3-3-06; 8:45 am]

BILLING CODE 3510-22-S